DEPARTMENT OF DEFENSE

Office of the Secretary

Domestic Advisory Panel (DAP) on Early Intervention and Education for Infants, Toddlers, Preschool Children, and Children With Disabilities; Meeting

AGENCY: Department of Defense Domestic Dependent Elementary and Secondary Schools (DDESS).

ACTION: Notice.

SUMMARY: Pursuant to Public Law 92-463, as amended (5 U.S.C. app. II), the Federal Advisory Committee Act, notice is hereby given that a meeting of the Domestic Advisory Panel (DAP) on Early Intervention and Education for Infants, Toddlers, Preschool Children, and Children with Disabilities is scheduled to be held from 8:30 a.m. to 3:30 p.m. on November 6-7, 2001. The meeting is open to the public and will be held in the Superintendent's offices at Building I4865, Knox Street, Fort Bragg, NC 28307-0089. The purpose of the meeting is to: (1) Review the responses to the panel's recommendations from its November 2000 meeting; (2) review and comment on data and information provided by DDESS; and (3) establish subcommittees as necessary. Persons desiring to attend the meeting or desiring to make oral presentations or submit written statements for consideration by the panel must contact Dr. David V. Burket at (703) 696-4354, extension 1455.

Dated: September 13, 2001.
L.M. Bymun,
Alternate OSD Federal Register Liaison Officer, DoD.

[FR Doc. 01-23370 Filed 9-19-01; 8:45 am]

BILLING CODE 5001-08-M